DEPARTMENT OF HOMELAND SECURITY

Federal Emergency Management Agency

[Docket ID FEMA-2022-0002; Internal Agency Docket No. FEMA-B-2209]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Mohave | Unincorporated areas of Mohave County (21-09-1303P). | The Honorable Buster D. Johnson, Chairman, Mohave County Board of Supervisors, P.O. Box 7000, Kingman, AZ 86402. | Mohave County Development Services Department, 3250 East Kino Avenue, Kingman, AZ 86402. | https://msc.fema.gov/portal/advanceSearch. | Apr. 21, 2022 | 480058
Florida:
Charlotte | Unincorporated areas of Charlotte County (21-04-3081P). | The Honorable Mr. Bill Truex, Chairman, Charlotte County, Board of Commissioners, 18500 Murdock Circle, Suite 536, Port Charlotte, FL 33948. | Charlotte County Community, Development Department, 18400 Murdock Circle, Port Charlotte, FL 33948. | https://msc.fema.gov/portal/advanceSearch. | May. 11, 2022 | 120061
Collier | City of Marco Island (21-04-4573P). | Mr. Mike McNees, Manager, City of Marco Island, 50 Bald Eagle Drive, Marco Island, FL 34145. | Building Services Department, 50 Bald Eagle Drive, Marco Island, FL 34145. | https://msc.fema.gov/portal/advanceSearch. | Apr. 12, 2022 | 120426
Collier | City of Naples (21-04-4309P). | The Honorable Teresa Heitmann, Mayor, City of Naples, 735 8th Street South, Naples, FL 34102. | Building Department, 295 Riverside Circle, Naples, FL 34102. | https://msc.fema.gov/portal/advanceSearch. | Apr. 12, 2022 | 125130
Collier | City of Naples (21-04-4737P). | The Honorable Teresa Heitmann, Mayor, City of Naples, 735 8th Street South, Naples, FL 34102. | Building Department, 295 Riverside Circle, Naples, FL 34102. | https://msc.fema.gov/portal/advanceSearch. | Apr. 28, 2022 | 125130
Lee | City of Sanibel (21-04-4886P). | The Honorable Holly D. Smith, Mayor, City of Sanibel, 800 Dunlop Road, Sanibel, FL 33957. | Community Services Department, 800 Dunlop Road, Sanibel, FL 33957. | https://msc.fema.gov/portal/advanceSearch. | Apr. 22, 2022 | 120402
Leon | City of Tallahassee (20-04-5259P). | The Honorable John E. Dailey, Mayor, City of Tallahassee, 300 South Adams Street, Tallahassee, FL 32301. | Growth Management Department, 435 North Macomb Street, Tallahassee, FL 32301. | https://msc.fema.gov/portal/advanceSearch. | Apr. 22, 2022 | 120144
Leon | Unincorporated areas of Leon County (20-04-5259P). | Mr. Vincent S. Long, Leon County Administrator, 301 South Monroe Street, Tallahassee, FL 32301. | Leon County Emergency Management Department, 911 Easterwood Drive, Tallahassee, FL 32311. | https://msc.fema.gov/portal/advanceSearch. | Apr. 22, 2022 | 120143
Monroe | City of Marathon, (21-04-5079P). | The Honorable John Bartus, Mayor, City of Marathon, 9805 Overseas Highway, Marathon, FL 33050. | Planning Department, 9805 Overseas Highway, Marathon, FL 33050. | https://msc.fema.gov/portal/advanceSearch. | Apr. 25, 2022 | 120681
Monroe | Unincorporated areas of Monroe County (21-04-4717P). | The Honorable Michelle Coldiron, Commissioner, Monroe County Board of Commissioners, 25 Ships Way, Big Pine Key, FL 33043. | Monroe County Building Department, 2798 Overseas Highway, Suite 300, Marathon, FL 33050. | https://msc.fema.gov/portal/advanceSearch. | Apr. 18, 2022 | 125129
Monroe | Unincorporated areas of Monroe County (21-04-5803P). | The Honorable Michelle Coldiron, Commissioner, Monroe County Board of Commissioners, 25 Ships Way, Big Pine Key, FL 33043. | Monroe County Building Department, 2798 Overseas Highway, Suite 300, Marathon, FL 33050. | https://msc.fema.gov/portal/advanceSearch. | Apr. 21, 2022 | 125129
Orange | City of Ocoee (21-04-4171P). | The Honorable Rusty Johnson, Mayor, City of Ocoee, 150 North Lakeshore Drive, Ocoee, FL 34761. | City Hall, 150 North Lakeshore Drive, Ocoee, FL 34761. | https://msc.fema.gov/portal/advanceSearch. | Apr. 20, 2022 | 120185
Polk | Unincorporated areas of Polk County (21-04-1105P). | Mr. Bill Beasley, Polk County Manager, 330 West Church Street, Bartow, FL 33831. | Polk County Land Development Division, 330 West Church Street, Bartow, FL 33831. | https://msc.fema.gov/portal/advanceSearch. | Apr. 21, 2022 | 120261
Polk | Unincorporated areas of Polk County (21-04-1193P). | Mr. Bill Beasley, Polk County Manager, 330 West Church Street, Bartow, FL 33831. | Polk County Land Development Division, 330 West Church Street, Bartow, FL 33831. | https://msc.fema.gov/portal/advanceSearch. | Apr. 28, 2022 | 120261
Sarasota | Unincorporated areas of Sarasota County (21-04-4033P). | The Honorable Alan Maio, Chairman, Sarasota County Board of Commissioners, 1660 Ringling Boulevard, Sarasota, FL 34236. | Sarasota County Planning and Development Services Department, 1001 Sarasota Center Boulevard, Sarasota, FL 34240. | https://msc.fema.gov/portal/advanceSearch. | Apr. 20, 2022 | 125144
Sarasota | Unincorporated areas of Sarasota County (22-04-1074P). | The Honorable Alan Maio, Chairman, Sarasota County Board of Commissioners, 1660 Ringling Boulevard, Sarasota, FL 34236. | Sarasota County Planning and Development Services Department, 1001 Sarasota Center Boulevard, Sarasota, FL 34240. | https://msc.fema.gov/portal/advanceSearch. | Apr. 27, 2022 | 125144
Maryland:
Howard | Unincorporated areas of Howard County (22-03-0019P). | The Honorable Calvin Ball, Howard County Executive, 3430 Court House Drive, Ellicott City, MD 21043. | Howard County Department of Public Works, Bureau of Environmental Services, 9801 Broken Land Parkway, Columbia, MD 21046. | https://msc.fema.gov/portal/advanceSearch. | Apr. 15, 2022 | 240044
Wicomico | Unincorporated areas of Wicomico County (21-03-1512P). | Mr. John D. Psota, Acting Executive, Wicomico County, P.O. Box 870, Salisbury, MD 21803. | Wicomico County Department of Planning and Zoning, 125 North Division Street, Room 201, Salisbury, MD 21801. | https://msc.fema.gov/portal/advanceSearch. | Apr. 29, 2022 | 240078
Montana:
Gallatin | City of Belgrade (21-08-0464P). | Mr. Neil Cardwell, Manager, City of Belgrade, 91 East Central Avenue, Belgrade, MT 59714. | Planning Department, 91 East Central Avenue, Belgrade, MT 59714. | https://msc.fema.gov/portal/advanceSearch. | Apr. 11, 2022 | 300105
Gallatin | Unincorporated areas of Gallatin County (21-08-0464P). | The Honorable Scott MacFarlane, Chairman, Gallatin County Commission, 311 West Main Street, Room 306, Bozeman, MT 59715 | Gallatin County Department of Planning and Community Development, 311 West Main Street, Room 108, Bozeman, MT 59715. | https://msc.fema.gov/portal/advanceSearch. | Apr. 11, 2022 | 300027
North Dakota: Morton | City of Mandan (21-08-1142P). | The Honorable Tim Helbling, Mayor, City of Mandan, 205 2nd Avenue, Northwest, Mandan, ND 58554. | Building Inspections Department, 205 2nd Avenue Northwest, Mandan, ND 58554. | https://msc.fema.gov/portal/advanceSearch. | Apr. 25, 2022 | 380072
Texas:
Collin | City of McKinney (21-06-2216P). | The Honorable George Fuller, Mayor, City of McKinney, P.O. Box 517, McKinney, TX 75070. | Engineering Department, 221 North Tennessee Street, McKinney, TX 75069. | https://msc.fema.gov/portal/advanceSearch. | Apr. 11, 2022 | 480135
Collin | City of Plano (21-06-2054P). | The Honorable John B. Muns, Mayor, City of Plano, 1520 K Avenue, Plano, TX 75074. | Engineering Department, 1520 K Avenue, Plano, TX 75074. | https://msc.fema.gov/portal/advanceSearch. | Apr. 11, 2022 | 480140
Potter | City of Amarillo (20-06-3803P). | The Honorable Ginger Nelson, Mayor, City of Amarillo, P.O. Box 1971, Amarillo, TX 79105. | City Hall, 808 South Buchanan Street, Amarillo, TX 79105. | https://msc.fema.gov/portal/advanceSearch. | Apr. 15, 2022 | 480529
Tarrant | City of Fort Worth (21-06-1704P). | The Honorable Mattie Parker, Mayor, City of Fort Worth, 200 Texas Street, Fort Worth, TX 76102. | Transportation and Public Works Department, Engineering Vault, 200 Texas Street, Fort Worth, TX 76102. | https://msc.fema.gov/portal/advanceSearch. | Apr. 22, 2022 | 480596
Williamson | City of Round Rock (21-06-1842P) | The Honorable Craig Morgan, Mayor, City of Round Rock, 221 East Main Street, Round Rock, TX 78664. | Department of Utilities and Environmental Services, 3400 Sunrise Road, Round Rock, TX 78665. | https://msc.fema.gov/portal/advanceSearch. | Apr. 25, 2022 | 481048
Williamson | Unincorporated areas of Williamson County (21-06-1842P). | The Honorable Bill Gravell, Jr., Williamson County Judge, 710 South Main Street, Suite 101, Georgetown, TX 78626. | Williamson County Engineering Department, 3151 Southeast Inner Loop, Georgetown, TX 78626. | https://msc.fema.gov/portal/advanceSearch. | Apr. 25, 2022 | 481079
Virginia: Mathews | Unincorporated areas of Mathews County (22-03-0021P). | Mr. Sanford B. Wanner, Interim Administrator, Mathews County, P.O. Box 839, Mathews, VA 23109. | Mathews County Building Department, 50 Brickbat Road, Mathews, VA 23109. | https://msc.fema.gov/portal/advanceSearch. | Apr. 29, 2022 | 510096

[FR Doc. 2022-02731 Filed 2-8-22; 8:45 am]

BILLING CODE 9110-12-P